U.S.-CHINA ECONOMIC AND SECURITY REVIEW COMMISSION

Notice of Open Public Hearing

AGENCY: U.S.-China Economic and Security Review Commission.

ACTION: Notice of open public hearing—September 14, 2006, Washington, DC.

SUMMARY: Notice is hereby given of the following hearing of the U.S.-China Economic and Security Review Commission.

Name: Larry M. Wortzel, Chairman of the U.S.-China Economic and Security Review Commission.

The Commission is mandated by Congress to investigate, assess, evaluate and report to Congress annually on the U.S.-China economic and security relationship. The mandate specifically charges the Commission to “analyze and assess the Chinese role in the proliferation of weapons of mass destruction (WMD) and other weapons (including dual-use technologies) to terrorist-sponsoring states, and suggest possible steps which the United States might take, including economic sanctions, to encourage the Chinese to stop such practices.” Pursuant to this mandate, the Commission will hold a public hearing in Washington, DC on September 14, 2006.

Background

This event is the eighth and final hearing in a series of public hearings the Commission will hold during its 2006 report cycle to collect input from leading experts in academia, business, industry, government and the public on the impact of the economic and national security implications of the U.S. growing bilateral relationship with China. The September 14, 2006, hearing is being conducted to obtain commentary about the economic and national security implications of Chinese proliferation practices and its role in the North Korean and Iranian nuclear program, and the impact of these issues on U.S. security interests. In particular, the hearing will examine China's involvement in the North Korean and Iranian nuclear situations and the role it is, or should be, playing to resolve the current crises. Information on hearings, as well as transcripts of past Commission hearings, can be obtained from the USCC Web site http://www.uscc.gov.

This hearing will address “China's Proliferation to North Korea and Iran, and Its Role in Addressing the Nuclear and Missile Situations in Both Nations” and will be co-chaired by Commissioners Daniel Blumenthal and William Reinsch.

Purpose of Hearing

The hearing is designed to assist the Commission in fulfilling its mandate by examining China's proliferation activities, transfers of WMD technology by Chinese entities to Iran, North Korea and other states of concern, and developments in connection with China's role in the Six-Party Talks with North Korea.

Copies of the hearing agenda will be made available on the Commission's Web site http://www.uscc.gov. Any interested party may file a written statement by September 14, 2006, by mailing to the contact below. The hearing will be held in two sessions, one in the morning and one in the afternoon, where Commissioners will take testimony from invited witnesses. There will be a question and answer period between the Commissioners and the witnesses.

Date and Time: Thursday, September 14, 2006, 8:30 a.m. to 4:30 p.m. Eastern Standard Time. A detailed agenda for the hearing will be posted to the Commission's Web site at http://www.uscc.gov in the near future.

ADDRESSES: The hearing will be held on Capitol Hill in Room 385 Russell Senate Office Building. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via E-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 9, 2006.
Kathleen J. Michels,
Associate Director, U.S.-China Economic and Security Review Commission.

[FR Doc. E6-13304 Filed 8-14-06; 8:45 am]

BILLING CODE 1137-00-P